DEPARTMENT OF ENERGY

Federal Energy Regulatory Commission

[Docket No. AD12-2-000]

Notice of Intent To Update the Upland Erosion Control and Revegetation and Maintenance Plan and the Wetland and Waterbody Construction and Mitigation Procedures and Request for Comments

The staff of the Office of Energy Projects is in the process of reviewing its Upland Erosion Control, Revegetation and Maintenance Plan (Plan) and Wetland and Waterbody Construction and Mitigation Procedures (Procedures), dated January 17, 2003, to determine if there are appropriate updates or improvements to be made at this time. In accordance with Order 603,¹ the staff is asking for public input and suggestions for modifications to the Plan and Procedures from the natural gas industry, federal, state and local agencies, environmental consultants, inspectors, construction contractors, and other interested parties with special expertise with respect to environmental issues commonly associated with pipeline projects. Please note that this comment period will close on January 18, 2012.

¹ Revision Of Existing Regulations Under Part 157 and Related Sections of the Commission's Regulations Under the Natural Gas Act, Commission Order No. 603, Docket No. RM98-9-000, issued April 29, 1999. Noticed in the Federal Register on May 14, 1999. 64 FR 26572.

The Plan and Procedures are referred to at 18 Code of Federal Regulations (CFR) 380.12(i)(5) and 380.12(d)(2), respectively, as well as 18 CFR 157.206(b)(3)(iv). Full texts of the current versions of the Plan and Procedures can be viewed on the Federal Energy Regulatory Commission (FERC or Commission) Web site at http://www.ferc.gov/industries/gas/enviro/guidelines.asp.

We anticipate issuing our draft changes to the Plan and Procedures in early 2012 and will make them available for public comment. We will then consider all timely comments on the drafts before issuing the final versions.

Interested parties can help us determine the appropriate updates and improvements to make by providing us comments or suggestions that focus on the specific sections requiring clarification, updates to reflect current laws and regulations, or improved measures to avoid or minimize environmental impacts. The more specific your comments, the more useful they will be. A detailed explanation of your submissions and/or any references of scientific studies associated with your comments would greatly help us with this process.

For your convenience, there are three methods you can use to submit your comments to the Commission. In all instances, please reference the docket number (AD12-2-000) with your submission. The Commission encourages electronic filing of comments and has expert eFiling staff available to assist you at (202) 502-8258 or efiling@ferc.gov. Please include your name and email address so we can include you in future notices regarding our planned revisions.

(1) You may file your comments electronically by using the eComment feature, which is located on the Commission's Web site at www.ferc.gov under the link to Documents and Filings. An eComment is an easy method for interested persons to submit brief, text-only comments;

(2) You may file your comments electronically by using the eFiling feature, which is located on the Commission's Web site at www.ferc.gov under the link to Documents and Filings. With eFiling you can provide comments in a variety of formats by attaching them as a file with your submission. New eFiling users must first create an account by clicking on “eRegister.” You will be asked to select the type of filing you are making. A comment in response to this notice is considered a “Comment on a Filing”; or

(3) You may file a paper copy of your comments at the following address: Kimberly D. Bose, Secretary, Federal Energy Regulatory Commission, 888 First Street NE., Room 1A, Washington, DC 20426.

All of the information related to the proposed updates to the Plan and Procedures and submitted comments can be found on the FERC Web site (www.ferc.gov) using the eLibrary link. Click on the eLibrary link, click on “General Search” and enter the docket number, excluding the last three digits in the Docket Number field (i.e., AD12-2). Be sure you have selected an appropriate date range. For assistance, please contact FERC Online Support at FercOnlineSupport@ferc.gov or toll free at (866) 208-3676, or for TTY, contact (202) 502-8659. The eLibrary link also provides access to the texts of formal documents issued by the Commission, such as orders, notices, and rulemakings.

In addition, the Commission offers a free service called eSubscription which allows you to keep track of all formal issuances and submittals in specific dockets. This can reduce the amount of time you spend researching proceedings by automatically providing you with notification of these filings, document summaries, and direct links to the documents. Go to www.ferc.gov/esubscribenow.htm.

Dated: October 31, 2011.
Kimberly D. Bose,
Secretary.

[FR Doc. 2011-28693 Filed 11-4-11; 8:45 am]

BILLING CODE 6717-01-P